ENVIRONMENTAL PROTECTION AGENCY

[EPA-HQ-OPPT-2011-0313; FRL-8869-4]

Certain New Chemicals; Receipt and Status Information

AGENCY: Environmental Protection Agency (EPA).

ACTION: Notice.

SUMMARY: Section 5 of the Toxic Substances Control Act (TSCA) requires any person who intends to manufacture (defined by statute to include import) a new chemical (i.e. a chemical not on the TSCA Inventory) to notify EPA and comply with the statutory provisions pertaining to the manufacture of new chemicals. Under sections 5(d)(2) and 5(d)(3) of TSCA, EPA is required to publish in the Federal Register a notice of receipt of a premanufacture notice (PMN) or an application for a test marketing exemption (TME), and to publish in the Federal Register periodic status reports on the new chemicals under review and the receipt of notices of commencement (NOC) to begin the manufacture of those chemicals. This document covers the period from October 11, 2010 to December 3, 2010, and provides the required notice and status report for the PMNs and TMEs, both pending or expired, and the NOCs to manufacture a new chemical that the Agency has received under TSCA section 5 during this time period.

DATES: Comments identified by the specific PMN or TME number, must be received on or before May 16, 2011.

ADDRESSES: Submit your comments, identified by docket identification (ID) number EPA-HQ-OPPT-2011-0313, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division, 7407M, Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the particular PMN or TME addressed in this document. If you have any questions regarding the applicability of this action to a particular entity, consult the person listed under FOR FURTHER INFORMATION CONTACT.

B. What should I consider as I prepare my comments for EPA?

1. Submitting CBI. Do not submit CBI to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information marked as CBI will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this Action?

EPA classifies chemical substances as either “existing” chemicals or “new” chemicals. Any substance that is not on EPA's TSCA Chemical Substances Inventory, commonly referred to as the TSCA Inventory, is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by section 5 of TSCA to provide EPA with a premanufacture notice, or PMN, before initiating the activity. Section 5(h)(1) authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems/.

Under TSCA sections 5(d)(2) and 5(d)(3) of TSCA, EPA is required to publish in the Federal Register a notice of receipt of a PMN or an application for a TME and to publish in the Federal Register periodic status reports on the new chemicals under review and the receipt of the NOCs to begin the manufacture of those chemicals. This document, covers the period from to October 11, 2010 to December 3, 2010, and provides the required notice and status report for the PMNs and TMEs, both pending or expired, and the NOCs to manufacture a new chemical that the Agency has received under TSCA section 5 during this time period.

III. Receipt and Status Reports

In Table I. of this Unit, EPA provides the following information (to the extent that such information is not claimed as CBI) on the PMNs received by EPA during this period: The EPA case number assigned to the PMN, the date the PMN was received by EPA, the projected end date for EPA's review of the PMN, the submitting manufacturer; the potential uses identified by the manufacturer/importer in the PMN, and the chemical identity.

Table I—75 PMNs Received From: 10/11/10 to 12/03/10
Case No. | Received date | Projected notice end date | Manufacturer/ Importer | Use | Chemical
P-11-0016 | 10/08/10 | 01/05/11 | CBI | (G) Coating component | (G) Adipic acid, polymer with benzenepolycarboxylic acids, polyakylene glycol, alkanediols, 1,1′-methylenebis[isocyanatobenzene] and a substituted-, trialkoxysilane
P-11-0017 | 10/12/10 | 01/09/11 | CBI | (G) Automotive coatings | (G) Aromatic diacid, polymer with polyol, alkyl triol, alkyl alkanoate
P-11-0018 | 10/12/10 | 01/09/11 | CBI | (G) Resin component | (S) 1h-pyrrole-1-hexanoic acid, 2,5-dihydro-2,5-dioxo-*
P-11-0019 | 10/13/10 | 01/10/11 | CBI | (G) Reactant | (G) Mercapto silane ester of silica
P-11-0020 | 10/12/10 | 01/09/11 | CBI | (G) Petroleum additive | (G) Acylated alkenyl succinimide
P-11-0021 | 10/12/10 | 01/09/11 | Akzo Nobel Coatings Inc. | (S) Designated use of this polymer is for refinishing vehicles. Through the hydroxyl groups on the polymer, the coating is crosslinked with a polyisocyanate material will be atomized by spray application. | (G) The PMN substance (polymer is designated for use in coatings intended for us in refinishing vehicles. Through the hydroxyl group on the polymer, the coatings is crosslinked with polyisocyanate
P-11-0022 | 10/12/10 | 01/09/11 | Akzo Nobel Coatings Inc. | (S) Designated use of this polymer is for refinishing vehicles. Through the hydroxyl groups on the polymer, the coating is crosslinked with a polyisocyanate. | (G) Methacrylic acid polymer with isobornyl methacrylate sobornyl acrylate 2 hydrox
P-11-0023 | 10/13/10 | 01/10/11 | Omnova Solutions Inc. | (S) Intermediate in the production of functionalized polymers; surfactant, flow, leveling, and wetting additive for solvent borne coatings. | (G) Methacrylic acid polymer with isobornyl methacrylate sobornyl acrylate 2 hydrox
P-11-0024 | 10/13/10 | 01/10/11 | Omnova Solutions Inc. | (S) Intermediate in the production of functionalized polymers; surfactant, flow, leveling, and wetting additive for solvent borne coatings | (G) Methacrylic acid polymer with isobornyl methacrylate sobornyl acrylate 2 hydrox
P-11-0025 | 10/13/10 | 01/10/11 | Omnova Solutions Inc. | (S) Intermediate in the production of functionalized polymers; surfactant, flow, leveling, and wetting agent borne coatings | (G) Methacrylic acid polymer with isobornyl methacrylate sobornyl acrylate 2 hydrox
P-11-0026 | 10/13/10 | 01/10/11 | Omnova Solutions Inc. | (S) Intermediate in the production of functionalized polymers; surfactant, flow, leveling, and wetting agent borne coatings | (G) Methacrylic acid polymer with isobornyl methacrylate sobornyl acrylate 2 hydrox
P-11-0027 | 10/18/10 | 01/15/11 | CBI | (G) Material for electronic parts | (G) (Methoxymethyl) hydrocarbomonocycle
P-11-0028 | 10/15/10 | 01/12/11 | CBI | (S) Coatings for leather; water borne industrial coatings like wood | (G) Hexamethylenediisocyanate hompolymer, alkoxy-terminated
P-11-0029 | 10/19/10 | 01/16/11 | Zeon Chemicals L.P. | (S) Dry etching agent for production of semiconductors; chemical vapor deposition (cvd) for production of semiconductors | (S) Cyclopentene, 1,3,3,4,4,5,5-heptafluoro-*
P-11-0030 | 10/19/10 | 01/16/11 | CBI | (S) Flame-retardant coating for textiles | (G) Waterborne polyurethane
P-11-0031 | 10/19/10 | 01/16/11 | CBI | (G) The substance is used to produce a component of polyurethane foam to insulate residential, commercial and industrial buildings. This application is contained and non-dispersive. | (G) Phenol, polymer with formaldehyde, reaction products with diethanolamine and alkylamine
P-11-0032 | 10/19/10 | 01/16/11 | Cognis Corporation | (S) Defoamer for industrial and institutional cleaning applications | (S) Poly(oxy-1,2-ethanediyl), .alpha.-(2-ethylhexyl)-.omega.-[(2-hydroxydecyl)oxy]-*
P-11-0033 | 10/18/10 | 01/15/11 | CBI | (S) Hardener for epoxy resin laminating systems | (S) Formaldehyde, polymer with 4-(1,1-dimethylethyl)phenol, reactions products with 1-piperazineethanamine*
P-11-0034 | 10/18/10 | 01/15/11 | CBI | (S) Hardener for epoxy resin laminating systems | (S) Formaldehyde, polymer with .alpha.-(2-aminomethylethyl)-.omega.-(2-aminomethylethoxy]poly[oxy(methyl-1,2-ethandiyl)] and 4-(1,1-dimethylethyl)phenol.*
P-11-0035 | 10/20/10 | 01/17/11 | Huntsman Corporation | (S) Enhanced oil recovery | (G) Alkyl alkoxy sulfate sodium salt
P-11-0036 | 10/20/10 | 01/17/11 | Huntsman Corporation | (S) Enhanced oil recovery | (G) Alkyl alkoxy sulfate sodium salt
P-11-0037 | 10/20/10 | 01/17/11 | Huntsman Corporation | (S) Enhanced oil recovery | (G) Alkyl alkoxy sulfate sodium salt
P-11-0038 | 10/21/10 | 01/18/11 | Instrumental Polymer Technologies, LLC | (S) Base polymer for coatings | (S) Carbonic acid, dimethyl ester, polymer with 2,2-bis(hydroxymethyl)-1,3-propanediol, cyclohexyl ester*
P-11-0039 | 10/21/10 | 01/18/11 | CBI | (G) Coating | (G) Silsesquioxanes, polyacrylate
P-11-0040 | 10/22/10 | 01/19/11 | CBI | (G) Component of lubricant. | (G) Lubricant ingredient
P-11-0041 | 10/21/10 | 01/18/11 | Dow Chemical Company | (S) Production engineered lubricants for closed system use; greases; friction modifier for metalworking lubricants | (G) Industrial lubricants
P-11-0042 | 10/25/10 | 01/22/11 | CBI | (S) Hardener for epoxy resin laminating systems | (S) 1,2-ethanediamine, N1,N2-bis(2-aminoethyl)-, reaction products with bu glycidyl ether*
P-11-0043 | 10/26/10 | 01/23/11 | Gelest, Inc. | (S) Conversion to 1,1,3,3-tetramethyldisiloxane—see gls138; reducing agent for organic substrates, e.g. pharmaceutical synthesis | (S) Disiloxane, 1-butyl-1,1,3,3-tetramethyl-*
P-11-0044 | 10/26/10 | 01/23/11 | Gelest, Inc. | (S) End-capper for silicones; research | (S) Disiloxane, 1,3-dibutyl-1,1,3,3-tetramethyl-*
P-11-0045 | 10/26/10 | 01/23/11 | Gelest, Inc. | (S) Oxygen permeable component of contact lens formulation; research | (S) Pentasiloxane, 1-butyl-1,1,3,3,5,5,7,7,9,9-decamethyl-*
P-11-0046 | 10/26/10 | 01/23/11 | Gelest, Inc. | (S) Conversion to hydrophobic substrates; research | (S) Siloxanes and silicones, di-me, bu group- and hydrogen-terminated *
P-11-0047 | 10/22/10 | 01/19/11 | Akzo Nobel Surface Chemistry LLC | (G) Friction modifier | (G) N,N-di(hydrogenated tallakyls)-1,3-propanediamine
P-11-0048 | 10/27/10 | 01/24/11 | CBI | (G) Open, non-dispersive textile finish | (G) Modified fluorinated urethane
P-11-0049 | 10/27/10 | 01/24/11 | Thor Specialties, Inc. | (G) Flame retardant for incorporation into polymer resins (open non-dispersive use) | (G) Organic-N,P-compound
P-11-0050 | 10/27/10 | 01/24/11 | Thor Specialties, Inc. | (G) Flame retardant for incorporation into polymer resins (open non-dispersive use) | (G) Organic-N,P-compound
P-11-0051 | 10/28/10 | 01/25/11 | CBI | (S) Flow modifier for aqueous cleaning solutions; flow modifier for aqueous dispersions | (G) Amino methacrylate copolymer
P-11-0052 | 11/01/10 | 01/29/11 | Piedmont Chemical Industries I, LLC | (S) Uv curable inks | (S) Fatty acids, C18-unsaturated, dimers, hydrogenated, esters with pentaerythritol acrylate *
P-11-0053 | 11/03/10 | 01/31/11 | CBI | (G) Automotive coating | (G) Substituted alkanoic acid, polymer with alkanediol and cyclic ether, alkanoate
P-11-0054 | 11/03/10 | 01/31/11 | Mane, USA | (G) Perfumery ingredient | (S) 2H-pyran-4-ol, 2-(1-ethylpropyl) tetrahydro-4-methyl
P-11-0055 | 11/02/10 | 01/30/11 | Forbo Adhesives, LLC | (G) Hot melt polyurethane purge | (G) Polyester urethane polymer
P-11-0056 | 11/03/10 | 01/31/11 | CBI | (S) Acylic resin used in uv curable inks and coatings | (G) Aliphatic urethane acrylate polymer
P-11-0057 | 11/03/10 | 01/31/11 | CBI | (S) Acrylic resin used in uv curable inks and coatings. | (G) Aliphatic urethane acrylate polymer
P-11-0058 | 11/02/10 | 01/30/11 | CBI | (G) Catalyst ingredient | (G) Aromatic diol, diaryl carboxylate
P-11-0059 | 11/04/10 | 02/01/11 | CBI | (G) Ingredient in paint. Degree of containment: highly dispersive use | (G) Trialkylsilyl acrylate copolymer
P-11-0060 | 11/04/10 | 02/01/11 | CBI | (G) Adhesive system component | (G) Methylenebis[isocyanatobenzene], polymer with alkanedioic acid, alkylene glycols, alkoxylated alkanepolyol and substituted trialkoxysilane
P-11-0061 | 11/05/10 | 02/02/11 | Huntsman Textile Effects | (S) Exhaust dyeing cotton fabrics | (G) Reaction product of substituted naphthalenesulfonic acid diazotized and couple with substituted triazine and substituted naphthalenesulfonic acid alkyl amino phenyl compound
P-11-0062 | 11/05/10 | 02/02/11 | CBI | (G) Gear oil additive | (G) Carbomonocyclic alkene polymer with alkyl alkenoate, polyalkylidene alkenoate and dialkylaminoalkyl alkenamide
P-11-0063 | 11/08/10 | 02/05/11 | CBI | (S) Coating material for use in textile and/or paper. | (G) Perfluoroalkyl acrylate copolymer
P-11-0064 | 11/08/10 | 02/05/11 | Isola Group | (G) Homide 108 is one of the monomers in the resin polymerization. | (G) N-(2,6-xylyl) maleimide
P-11-0065 | 11/09/10 | 02/06/11 | CBI | (G) Intermediate | (G) Alkyl methacrylate
P-11-0066 | 11/09/10 | 02/06/11 | CBI | (G) Additive in transmission fluids | (G) Acrylic polymer
P-11-0067 | 11/09/10 | 02/06/11 | CBI | (G) Additive in transmission fluids | (G) Acrylic polymer
P-11-0068 | 11/12/10 | 02/09/11 | CBI | (G) Polymeric dye carrier | (G) Polyester polyamide
P-11-0069 | 11/12/10 | 02/09/11 | CBI | (S) Crosslinker for polymers | (G) Dispersible isocyanate crosslinker
P-11-0070 | 11/05/10 | 02/02/11 | Starfire Systems, Inc. | (S) Precurser for producing silicon oxycarbide ceramics | (G) Alkyl siloxane polymer
P-11-0071 | 11/05/10 | 02/02/11 | Starfire Systems, Inc. | (S) High temperature resistant adhesive; ceramic matrix composites; polymer matrix composits | (G) Alkyl siloxane polymer
P-11-0072 | 11/15/10 | 02/12/11 | Cognis Corporation | (G) The formulated pmn substance will be imported for use as a lubricant oil for gear boxes. | (S) Decanedioic acid, polymer with 2,2-bis(hydroxymethyl)-1,3-propanediol, isooctadecanoate *
P-11-0073 | 11/12/10 | 02/09/11 | Huntsman Corporation | (S) Intermediate for enhanced oil recovery surfactants | (G) Alkylxylene
P-11-0074 | 11/19/10 | 02/16/11 | CBI | (S) A component in ultraviolet light/electron beam curable formulations | (G) Glyceryl polypropylene glycol ether polymer with isophorone diisocyanate, methacrylate blocked
P-11-0075 | 11/19/10 | 02/16/11 | CBI | (G) For use in the manufacture of paper | (G) Polyphenolic condensation polymer
P-11-0076 | 11/22/10 | 02/19/11 | CBI | (S) Pigment dispersant for use in water-based coating | (G) Polyurethane derivative
P-11-0077 | 11/23/10 | 02/20/11 | CBI | (G) Printing additive | (G) Benzenedicarboxylic acid, polymer with 1,4-butanediol, (2e)-2-butenedioic acid, decanedioic acid, ethenylbenzene, 2-ethylhexyl 2-propenoate, hexanedioic acid, 1,6-hexane derivatives and 2-propenoic acid, tert-bu peroxide-initiated
P-11-0078 | 11/24/10 | 02/21/11 | Shin-etsu Silicones of America Inc. | (S) Treatment from textile; fabric softener | (S) Siloxanes and silicones, dimethyl, hydroxy terminated, reaction products with N-[3-(dimethoxymethylsilyl)propyl]-1,2-ethanediamine *
P-11-0079 | 11/30/10 | 02/27/11 | H.B. Fuller | (G) Industrial adhesive | (G) Polyester, polymer with 2-ethyl-2-(hydroxymethyl)-1,3-propanediol and 5-isocyanato-1-(isocyanatomethyl)-1,3,3-trimethylcyclohexane
P-11-0080 | 11/30/10 | 02/27/11 | CBI | (G) Component of a floor coating | (G) Urethane acrylate
P-11-0081 | 11/30/10 | 02/27/11 | K+S North America | (S) Intermediate to be used in the production of 1h-pyrazole, 3,4-dimethyl-, phosphate, a fertilizer additive. | (S) 3,4-dimethyl-1H-pyrazole *
P-11-0082 | 11/30/10 | 02/27/11 | CBI | (G) Personal care, industrial & household hygiene, floucculants, specialty coatings | (G) Styrene-acrylate copolymer
P-11-0083 | 12/02/10 | 03/01/11 | Huntsman Textile Effects | (S) Exhaust dyeing cotton fabrics | (G) Reaction product of substituted naphthalenesulfonic acid and substituted benzenesulfonic acid diazotized and coupled with alkyl benzene substituted triazine amino phenyl compound
P-11-0084 | 12/01/10 | 02/28/11 | CBI | (G) Encapsulated for electronic parts | (G) Epoxylated nitrile rubber
P-11-0085 | 12/03/10 | 03/02/11 | CBI | (G) Chemical reagent for industrial syntheses | (G) Polyfluoroalkylpropionic acid ethyl ester
P-11-0086 | 12/03/10 | 03/02/11 | CBI | (G) Chemical reagent for industrial syntheses | (G) Polyfluoroalkyl phosphoric acid
P-11-0087 | 12/03/10 | 03/02/11 | CBI | (G) Chemical processing aid | (G) Polyfluoroalkyl phosphoric acid salt, aqueous solution
P-11-0088 | 12/03/10 | 03/02/11 | CBI | (G) Chemical processing aid | (G) Polyfluoroalkyl phosphoric acid salt, aqueous solution
P-11-0089 | 12/03/10 | 03/02/11 | CBI | (G) Chemical processing aid | (G) Polyfluoroalkyl phosphoric acid salt, aqueous solution
P-11-0090 | 12/03/10 | 03/02/11 | CBI | (G) Chemical intermediate | (G) Heteroaromatic compound

In Table II. of this Unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—05 TMEs Received From: 10/18/10 to 12/03/10
Case No. | Received date | Projected notice end date | Manufacturer/importer | Use | Chemical
T-11-0002 | 12/13/10 | 01/26/11 | Cytec Industries Inc. | (S) Dispersing additive for organic and inorganic pigments and extenders | (G) Substituted alkanoic acid, polymer with alkanoic acid alkyl esters, with substituted polyglycol-initiated.
T-11-0003 | 12/13/10 | 01/26/11 | Cytec Industries Inc. | (G) Coatings resin | (G) Substituted alkyl homopolymer, substituted alkylacrylate and heteromonocyclic homopolymer monoester with substituted alkylacrylate.
T-11-0004 | 12/13/10 | 01/26/11 | CBI | (G) Inhibitor for oil field applications | (G) Tertiary ammonium compound.
T-11-0005 | 12/14/10 | 01/27/11 | Cytec Industries Inc. | (G) Binder resin | (G) Modified epoxy resin.
T-11-0006 | 01/11/11 | 02/24/11 | CBI | (G) Inhibitor for oil field applications | (G) Tertiary ammonium compound.

In Table III. of this Unit, EPA provides the following information (to the extent that such information is not claimed as CBI) on the NOCs received by EPA during this period: The EPA case number assigned to the NOC, the date the NOC was received by EPA, the projected end date for EPA's review of the NOC, and the chemical identity.

Table III—37 NOCs Received From: 10/11/10 to 12/3/10
Case No. | Received date | Commencement notice end date | Chemical
J-09-0004 | 10/21/10 | 06/30/10 | (G) Contained use of a genetically modified microorganism trichoderma reesei.
J-10-0002 | 10/20/10 | 10/18/10 | (G) Carbohydrase.
J-10-0003 | 10/20/10 | 10/15/10 | (G) T. Reesei 3408.
P-05-0145 | 11/01/10 | 10/21/05 | (G) Polyether polyol.
P-05-0297 | 01/07/11 | 12/02/10 | (G) Aqueous polyurethane dispersion.
P-05-0400 | 12/20/10 | 01/10/06 | (S) 1-butanone, 3-(dodecylthio)-1-(2,6,6-trimethyl-3-cyclohexen-1-yl)-*.
P-05-0526 | 11/10/10 | 10/24/10 | (G) Polyurethane resin.
P-05-0840 | 01/24/11 | 12/22/10 | (G) Polycarbonate polyurethane.
P-05-0842 | 01/24/11 | 12/22/10 | (G) Polycarbonate polyurethane.
P-05-0843 | 01/24/11 | 12/22/10 | (G) Polycarbonate polyurethane.
P-06-0450 | 12/13/10 | 11/18/10 | (S) Poly(oxy-1,2-ethanediyl), .alpha.-(2-methyl-2-propenyl)-.omega.-hydroxy-, c12-15-alkyl ethers*.
P-06-0451 | 12/13/10 | 11/12/10 | (S) Poly(oxy-1,2-ethanediyl), .alpha.-(2-methyl-2-propenyl)-.omega.-hydroxy-, c10-16-alkyl ethers*.
P-06-0618 | 11/01/10 | 10/20/10 | (G) Salts of modified tall-oil fatty acid amidoamines.
P-06-0619 | 11/01/10 | 10/20/10 | (G) Salts of modified tall-oil fatty acids.
P-07-0353 | 10/07/10 | 08/28/10 | (G) Alkyl acid fluoride.
P-07-0719 | 11/30/10 | 11/03/10 | (S) Benzeneacetonitrile, .alpha.-butylidene-, (.alpha. z)-*.
P-08-0273 | 12/21/10 | 12/10/10 | (G) Alkyl silyl phosphonate.
P-08-0299 | 12/20/10 | 12/15/10 | (S) Propanol, 1(or 2)-(methyl-2-[(1,7,7-trimethylbicyclo[2.2.1]hept-2-yl)oxy]ethoxy]-*.
P-08-0376 | 10/12/10 | 10/06/10 | (G) Arylalkylamine, N-[4-[2-(substitutedaryl)diazenyl]aryl]-N-alkyl.
P-08-0401 | 01/04/11 | 12/16/10 | (G) Polyether modified fatty acid dimer.
P-08-0422 | 01/04/11 | 12/16/10 | (G) Potassium polystyrene maleate.
P-08-0486 | 10/05/10 | 09/17/10 | (G) Polymer with .alpha.-hydro-.omega.-hydroxypoly[oxy(methyl-1,2-ethanediyl)], 3-hydroxy-2-(hydroxymethyl)-2-methylpropanoic acid and alkyldiisocyanate, ammonium salt.
P-08-0502 | 01/12/11 | 12/16/10 | (G) Cyclic guanidine.
P-08-0537 | 11/23/10 | 11/01/10 | (G) Comple keto-amine.
P-08-0550 | 11/29/10 | 11/20/10 | (S) 1-propene, 1,3,3,3-tetrafluoro-, (1e)-*.
P-08-0643 | 12/30/10 | 12/17/10 | (G) Fluorinated acrylic copolymer.
P-09-0083 | 10/04/10 | 09/03/10 | (G) Cationic polyamide.
P-09-0131 | 11/23/10 | 11/11/10 | (G) Aromatic carboxylic acid.
P-09-0146 | 10/01/10 | 09/28/10 | (S) Formaldehyde, polymers with acetone-phenol reaction products and phenol, sodium salts*.
P-09-0363 | 11/12/10 | 10/28/10 | (G) Polyalkenyl derives. of aliphatic dicarboxylic anhydride, imides with melamine.
P-09-0364 | 11/12/10 | 10/28/10 | (G) Alkenoic acid, polymer with alkyl alkenoates, sodium salt.
P-09-0382 | 11/30/10 | 11/09/10 | (S) Iron, citrate phosphate potassium complexes*.
P-09-0416 | 11/30/10 | 11/26/10 | (G) 3'H-cyclopropacarbopolycycle-3'-butanoic acid, 3'-phenyl-, methyl ester; 3'H-cyclopropacarbopolycycle-3'-butanoic acid, 3'-phenyl-, methyl ester.
P-09-0430 | 10/04/10 | 09/14/10 | (G) Polymeric monoazo compound.
P-09-0431 | 10/04/10 | 09/14/10 | (G) Polymeric monoazo compound.
P-09-0432 | 10/04/10 | 09/14/10 | (G) Polymeric monoazo triphenylmethane.
P-09-0433 | 10/04/10 | 09/14/10 | (G) Polymeric triphenylmethane.

If you are interested in information that is not included in these tables, you may contact the person listed under FOR FURTHER INFORMATION CONTACT to access additional non-CBI information that may be available.

List of Subjects

Environmental protection, Chemicals, Hazardous substances, Imports, Notice of commencement, Premanufacturer, Reporting and recordkeeping requirements, Test marketing exemptions.

Dated: April 4, 2011.
Darryl S. Ballard,
Acting Director, Information Management Division, Office of Pollution Prevention and Toxics.

[FR Doc. 2011-8574 Filed 4-14-11; 8:45 am]

BILLING CODE 6560-50-P